DEPARTMENT OF EDUCATION

Notice of Summer Subsistence Allowance Increase for the Foreign Language and Area Studies Fellowship Program for Fiscal Year 2023

AGENCY: Office of Postsecondary Education, Department of Education.

ACTION: Notice.

SUMMARY: The Department of Education (Department) is issuing a notice increasing the summer subsistence allowance amount for Fiscal Year (FY) 2023 for the Foreign Language and Area Studies Fellowships (FLAS) Program, Assistance Listing Number 84.015B. This notice relates to the approved information collection under OMB control number 1840-0807.

DATES: This increase is effective June 12, 2023.

FOR FURTHER INFORMATION CONTACT: Sarah T. Beaton, International Foreign Language Education, U.S. Department of Education, 400 Maryland Avenue SW, Washington, DC 20202. Telephone: 202-453-7221. Email: sarah.beaton@ed.gov.

If you are deaf, hard of hearing, or have a speech disability and wish to access telecommunications relay services, please dial 7-1-1.

SUPPLEMENTARY INFORMATION:

Purpose of Program: The FLAS Program allocates academic year and summer fellowships to institutions of higher education (IHEs) and consortia of such institutions to assist meritorious undergraduate and graduate students receiving modern foreign language training in combination with area studies, international studies, or the international aspects of professional studies. FLAS fellowships may also assist graduate students engaged in predissertation level study, preparation for dissertation research, dissertation research abroad, or dissertation writing.

FLAS Fellowship Subsistence Allowances: In FY 2021, the Department published a notice soliciting applications for the FLAS Program (86 FR 71466). That notice established the subsistence allowance for a graduate student academic year fellowship at $20,000; the subsistence allowance for an undergraduate student academic year fellowship at $5,000; and the subsistence allowance for a summer fellowship at $2,500 for graduate and undergraduate students.

In accordance with 34 CFR 657.31(b)(1), the Department is publishing this notice to increase the subsistence allowance amount for a summer session to $3,500 per fellow.

Note: This notice does not solicit applications.

Program Authority: 20 U.S.C. 1122.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Adobe Portable Document Format (PDF). To use PDF you must have Adobe Acrobat Reader, which is available free on Adobe's website.

You may also access documents of the Department published in the Federal Register by using the article search feature at www.federalregister.gov. Specifically, through the advanced search feature at this site, you can limit your search to documents published by the Department.

Nasser Paydar,
Assistant Secretary for Postsecondary Education.

[FR Doc. 2023-12468 Filed 6-9-23; 8:45 am]

BILLING CODE 4000-01-P